DEPARTMENT OF TRANSPORTATION

Federal Aviation Administration

14 CFR Part 97

[Docket No. 30668 Amdt. No 3223]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective May 28, 2009. The compliance date for each SIAP, associated Takeoff Minimums, and ODP is specified in the amendatory provisions.

The incorporation by reference of certain publications listed in the regulations is approved by the Director of the Federal Register as of May 28, 2009.

ADDRESSES: Availability of matters incorporated by reference in the amendment is as follows:

For Examination—

1. FAA Rules Docket, FAA Headquarters Building, 800 Independence Avenue, SW., Washington, DC 20591;

2.The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C.552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26,1979) ; and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on May 15, 2009.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.29, 97.31, 97.33, and 97.35 [Amended]

By amending: § 97.23 VOR, VOR/DME, VOR or TACAN, and VOR/DME; § 97.25 LOC, LOC/DME, LDA, LDA/DME, SDF, SDF/DME; § 97.29 ILS, ILS/DME, MLS, MLS/DME, MLS/RNAV; § 97.31 RADAM SIAPs; § 97.33 RNAV SIAPs; and § 97.35 COPTER SIAPs, Identified as follows:

Effective Upon Publication

FDC date | State | City | Airport | FDC No. | Subject
04/03/09 | AK | Gustavus | Gustavus | 9/2492 | VOR/DME Rwy 29, Amdt 1A. Originally published in TL 09-11 is hereby rescinded.
04/30/09 | AK | St George | St George | 9/6473 | ILS Rwy 11, Orig.
05/01/09 | CA | Firebaugh | Firebaugh | 9/6757 | VOR/DME OR GPS-A, Amdt 2B.
05/04/09 | NM | Roswell | Roswell Internation Air Center | 9/6836 | LOC BC Rwy 3, Amdt 9A.
05/04/09 | OR | Baker City | Baker City Muni | 9/6949 | VOR/DME Rwy 13, AMDT 11A.
05/05/09 | NC | New Bern | Craven County Regional | 9/7060 | Takeoff Minimums and obstacle DP, Amdt 3A.
05/05/09 | NC | New Bern | Craven County Regional | 9/7061 | VOR Rwy 22, Amdt 2.
05/05/09 | NC | New Bern | Craven County Regional | 9/7062 | VOR Rwy 4, Amdt 4.
05/05/09 | NC | New Bern | Craven County Regional | 9/7063 | RNAV (GPS) Rwy 22, Orig-A.
05/05/09 | NC | New Bern | Craven County Regional | 9/7064 | RNAV (GPS) Rwy 4, ORIG.
05/05/09 | NC | New Bern | Craven County Regional | 9/7065 | ILS or LOC Rwy 4, Orig-B.
05/05/09 | NC | New Bern | Craven County Regional | 9/7066 | Radar-1, Amdt 2A.
05/05/09 | WI | Stevens Point | Stevens Point Muni | 9/7099 | ILS or LOC Rwy 21, Orig.
05/05/09 | SC | Columbia | Columbia Metropolitan | 9/7232 | ILS Rwy 11, Amdt 14A.
05/05/09 | SC | Columbia | Columbia Metropolitan | 9/7233 | ILS Rwy 11 (CAT III), Amdt 14A.
05/05/09 | SC | Columbia | Columbia Metropolitan | 9/7234 | ILS or LOC Rwy 5, Amdt 1B.
05/05/09 | SC | Columbia | Columbia Metropolitan | 9/7235 | ILS or LOC Rwy 29, Amdt 3F.
05/05/09 | SC | Columbia | Columbia Metropolitan | 9/7236 | ILS Rwy 11 (CAT II), Amdt 14A.
05/07/09 | ID | Caldwell | Caldwell Industrial | 9/7644 | NDB Rwy 30, AMDT 1A.
05/07/09 | NY | Southampton | Southampton Heliport | 9/7945 | Copter RNAV (GPS) 190, Orig.
05/11/09 | FL | Bartow | Bartow Muni | 9/8370 | RNAV (GPS) Rwy 23, Orig.
05/11/09 | FL | Bartow | Bartow Muni | 9/8371 | RNAV (GPS) Rwy 9L, Amdt 1.
05/11/09 | FL | Bartow | Bartow Muni | 9/8373 | RNAV (GPS) Rwy 9L, Amdt 1.
05/14/09 | CA | Santa Ynez | Santa Ynez | 9/8374 | GPS A, Orig-B.
05/14/09 | CA | Santa Ynez | Santa Ynez | 9/8375 | GPS Rwy 8, ORIG.
05/14/09 | CA | Santa Ynez | Santa Ynez | 9/8377 | VOR or GPS B, AMDT 7D.
05/14/09 | CA | Santa Rosa | Charles M. Schulz-Sonoma County | 9/8382 | VOR/DME Rwy 14, Amdt 2.
05/14/09 | MA | New Bedford | New Bedford Regional | 9/8422 | ILS or LOC Rwy 5, Amdt 25A.

[FR Doc. E9-12138 Filed 5-27-09; 8:45 am]

BILLING CODE 4910-13-P